DEPARTMENT OF ENERGY

Federal Energy Regulatory Commission

[Project No. 2426-197]

California Department of Water Resources and the City of Los Angeles; Notice of Availability of Final Environmental Assessment

June 12, 2008.

In accordance with the National Environmental Policy Act of 1969 and Federal Energy Regulatory Commission (Commission or FERC) regulations, 18 CFR Part 380, the Office of Energy Projects staff (staff) reviewed the application for amendment of project license for the California Aqueduct Project, located on Piru Creek in California and prepared an environmental assessment (EA) for the project. A draft EA was prepared and issued for public comment on March 1, 2007. In this final EA, staff analyzes the potential environmental effects of the proposed minimum flow modification and concludes that amending the license as proposed with staff-recommended additional measures would not constitute a major federal action significantly affecting the quality of the human environment.

A copy of the final EA is available for review at the Commission in the Public Reference Room, or it may be viewed on the Commission's Web site at http://www.ferc.gov using the “e-Library” link. Enter the docket number P-2426-197 (excluding the last three digits in the docket number field) to access the document. For assistance, contact FERC Online Support at FERCOnlineSupport@ferc.gov or toll-free at 1-866-208-3676, or for TTY, (202) 502-8659.

You also may register online at http://www.ferc.gov/docs-filing/esubscription.asp to be notified via e-mail of new filings and issuances related to this or other pending projects. For assistance, contact FERC Online Support.

For further information, please contact Rebecca Martin by telephone at (202) 502-6012 or by e-mail at Rebecca.Martin@ferc.gov.

Kimberly D. Bose,
Secretary.

[FR Doc. E8-13810 Filed 6-18-08; 8:45 am]

BILLING CODE 6717-01-P